INTERNATIONAL TRADE COMMISSION

[Investigation No. 337-TA-834]

Certain Mobile Electronic Devices Incorporating Haptics; Amendment of the Complaint and Notice of Investigation

AGENCY: U.S. International Trade Commission.

ACTION: Notice.

SUMMARY: Notice is hereby given that the U.S. International Trade Commission has determined not to review the presiding administrative law judge's (“ALJ”) initial determination (“ID”) (Order No. 7) amending the complaint and notice of investigation in the above-captioned investigation.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on April 6, 2012, based on a complaint filed by Immersion Corporation of San Jose, California (“Immersion”), alleging a violation of 19 U.S.C. 1337 in the importation, sale for importation, and sale within the United States after importation of certain mobile electronic devices incorporating haptics, by reason of the infringement of claims of six patents, including U.S. Patent Nos. 6,429,846 (“the '846 patent”) and 8,031,181 (“the '181 patent”). 77 FR 20847 (Apr. 6, 2012). The notice of institution named four respondents: Motorola Mobility, Inc. and Motorola Mobility Holdings, Inc., both of Libertyville, Illinois; HTC Corporation of Taoyuan, Taiwan; and HTC America, Inc. of Bellevue, Washington.

On May 21, 2012, Immersion moved for leave to amend its complaint and the notice of investigation to assert claims 1, 3-7, 13-16, 18, 19, and 22 of the '846 patent, based upon a recent certificate of correction issued by the U.S. Patent and Trademark Office for that patent. Immersion also sought leave to assert claim 7 of the '181 patent, which it alleged had been omitted from the notice of investigation because of a typographical error.

On May 31, 2012, the respondents opposed the motion in substantial part. On July 18, 2012, the ALJ issued the subject ID granting Immersion's motion.

No petitions for review of the ID were filed. The Commission has determined not to review the ID.

The authority for the Commission's determination is contained in section 337 of the Tariff Act of 1930, as amended (19 U.S.C. 1337), and in sections 210.14 and 210.42 of the Commission's Rules of Practice and Procedure (19 CFR 210.14, 210.42).

Issued: August 13, 2012.
By order of the Commission.
William R. Bishop,
Hearings and Meetings Coordinator.

[FR Doc. 2012-20129 Filed 8-15-12; 8:45 am]

BILLING CODE 7020-02-P